DEPARTMENT OF DEFENSE

Office of the Secretary

U.S. Strategic Command Strategic Advisory Group

AGENCY: Department of Defense, USSTRATCOM.

ACTION: Notice.

SUMMARY: The Strategic Advisory Group (SAG) met in closed session on March 23, 2006. The mission of the SAG is to provide timely advice on scientific, technical, intelligence, and policy-related issues to the Commander, U.S. Strategic Command, during the development of the Nation's strategic war plans. Full development of the topics will require discussion of information classified in accordance with Executive order 12958, dated April 17, 1995. Access to this information must be strictly limited to personnel having requisite security clearances and specific need-to-know. Unauthorized disclosure of the information to be discussed at the SAG meeting could have exceptionally grave impact upon national defense.

In accordance with Section 10(d) of the Federal Advisory Committee Act (5 U.S.C. App. 2), it has been determined that this SAG meeting concerns matters listed in 5 U.S.C. 552b(c), and that, accordingly, this meeting will be closed to the public. This notice was not published within the 15-day timeframe because of a recent determination that this meeting is deliberative in nature.

Dated: March 23, 2006.
L.M. Bynum,
Alternate OSD Federal Registered Liaison Officer, DoD.

[FR Doc. 06-2999 Filed 3-28-06; 8:45 am]

BILLING CODE 5001-96-M